DEPARTMENT OF COMMERCE

International Trade Administration

[A-588-857]

Welded Large Diameter Line Pipe From Japan: Notice of Rescission of Antidumping Duty Administrative Review

AGENCY: Import Administration, International Trade Administration, Department of Commerce.

SUMMARY: On January 29, 2010, the U.S. Department of Commerce (the Department) published a notice of initiation of an administrative review of the antidumping duty order on welded large diameter line pipe from Japan. The review covers 4 producers/exporters of welded large diameter line pipe from Japan, which are, JFE Steel Corporation, Nippon Steel Corporation, Sumitomo Corporation, and Sumitomo Metal Industries, Ltd. (a.k.a. Sumimoto Metals Pipe & Tube Company). Based on a withdrawal of the request for review from United States Steel Corporation (hereafter “U.S. Steel”), a domestic producer of welded large diameter line pipe, we are now rescinding this administrative review in full.

DATES: Effective Date: July 7, 2010.

FOR FURTHER INFORMATION CONTACT: John Drury, or Angelica Mendoza, AD/CVD Operations, Office 7, Import Administration, International Trade Administration, U.S. Department of Commerce, 14th Street and Constitution Avenue, NW., Washington, DC 20230; telephone: (202) 482-0195, or (202) 482-3019, respectively.

SUPPLEMENTARY INFORMATION:

Background

On December 1, 2009, the Department published in the Federal Register the notice of opportunity to request an administrative review of the antidumping duty order on welded large diameter line pipe from Japan for the period December 1, 2008, through November 30, 2009. See Antidumping or Countervailing Duty Order, Finding, or Suspended Investigation; Opportunity to Request Administrative Review, 74 FR 62743 (December 1, 2009). On December 31, 2009, the Department received a request from U.S. Steel that the Department conduct an administrative review covering producers/exporters of welded large diameter line pipe from Japan. On January 29, 2010, the Department published in the Federal Register the notice of initiation of the 2008-2009 administrative review of welded large diameter line pipe from Japan. See Initiation of Antidumping and Countervailing Duty Administrative Reviews, Request for Revocation in Part, and Deferral of Initiation of Administrative Review, 75 FR 4770 (January 29, 2010).

On March 1, 2010, the Department received notice on behalf of both Sumitomo Corporation and Sumitomo Metal Industries informing the Department that neither had made any exports, sales or entries of subject merchandise into the U.S. for the period of review.

On April 8, 2010, the Department issued its antidumping duty questionnaire to JFE Steel Corporation. At the time that U.S. Steel withdrew its request for review, JFE Steel Corporation had not submitted responses to the Department's questionnaire.

On April 14, 2010, the Department received a notice on behalf of Nippon Steel Corporation informing the Department that it had not made any exports, sales or entries of subject merchandise into the U.S. for the period of review.

On June 1, 2010, U.S. Steel withdrew its request for administrative review for all companies.

Period of Review

The period of review (POR) is December 1, 2008, through November 30, 2009.

Scope of the Order

The merchandise under review is welded large diameter line pipe from Japan. The product covered by this order is certain welded carbon and alloy line pipe, of circular cross section and with an outside diameter greater than 16 inches, but less than 64 inches, in diameter, whether or not stenciled. This product is normally produced according to American Petroleum Institute (API) specifications, including Grades A25, A, B, and X grades ranging from X42 to X80, but can also be produced to other specifications. The product currently is classified under U.S. Harmonized Tariff Schedule (HTSUS) item numbers 7305.11.10.30, 7305.11.10.60, 7305.11.50.00, 7305.12.10.30, 7305.12.10.60, 7305.12.50.00, 7305.19.10.30. 7305.19.10.60, and 7305.19.50.00. Although the HTSUS item numbers are provided for convenience and customs purposes, the written description of the scope is dispositive. Specifically not included within the scope of this order is American Water Works Association (AWWA) specification water and sewage pipe and the following size/grade combinations; of line pipe:

• Having an outside diameter greater than or equal to 18 inches and less than or equal to 22 inches, with a wall thickness measuring 0.750 inch or greater, regardless of grade.

• Having an outside diameter greater than or equal to 24 inches and less than 30 inches, with wall thickness measuring greater than 0.875 inches in grades A, B, and X42, with wall thickness measuring greater than 0.750 inches in grades X52 through X56, and with wall thickness measuring greater than 0.688 inches in grades X60 or greater.

• Having an outside diameter greater than or equal to 30 inches and less than 36 inches, with wall thickness measuring greater than 1.250 inches in grades A, B, and X42, with wall thickness measuring greater than 1.000 inches in grades X52 through X56, and with wall thickness measuring greater than 0.875 inches in grades X60 or greater.

• Having an outside diameter greater than or equal to 36 inches and less than 42 inches, with wall thickness measuring greater than 1.375 inches in grades A, B, and X42, with wall thickness measuring greater than 1.250 inches in grades X52 through X56, and with wall thickness measuring greater than 1.125 inches in grades X60 or greater.

• Having an outside diameter greater than or equal to 42 inches and less than 64 inches, with a wall thickness measuring greater than 1.500 inches in grades A, B, and X42, with wall thickness measuring greater than 1.375 inches in grades X52 through X56, and with wall thickness measuring greater than 1.250 inches in grades X60 or greater.

• Having an outside diameter equal to 48 inches, with a wall thickness measuring 1.0 inch or greater, in grades X-80 or greater.

• Having an outside diameter of 48 inches to and including 52 inches, and with a wall thickness of 0.90 inch or more in grade X80 or above.

• Having an outside diameter of 48 inches to and including 52 inches, and with a wall thickness of 0.54 inch or more in grade X100 or above.

• Having an outside diameter of 21 inches and wall thickness of 0.625 inch or more in grade X80.

Rescission of Antidumping Administrative Review

19 CFR 351.213(d)(1) of the Department's regulations provides that the Department will rescind an administrative review if the party that requested the review withdraws its request for review within 90 days of the date of publication of the notice of initiation of the requested review, or withdraws at a later date if the Department determines it is reasonable to extend the time limit for withdrawing the request. Therefore, although petitioners withdrew their request with regard to all four companies after the 90-day deadline, the Department has the discretion to extend this time limit. Consistent with the Department's practice,¹ we find it reasonable to extend the withdrawal deadline, because the Department has not yet devoted significant time or resources to this review and petitioners were the only party to request a review.

¹ See Persulfates from the People's Republic of China: Notice of Rescission of Antidumping Duty Administrative Review, 71 FR 13810 (Mar. 17, 2006); see also Honey from the People's Republic of China: Notice of Partial Rescission of Antidumping Duty Administrative Review, 70 FR 42032 (Jul. 21, 2005); and Certain Cut-to-Length Carbon Steel Plate From the People's Republic of China: Notice of Rescission of Antidumping Duty Administrative Review, 70 FR 44560 (Aug. 3, 2005); and Notice of Rescission of Antidumping Duty Administrative Review: Petroleum Wax Candles from the People's Republic of China, 70 FR 33733 (Jun. 9, 2005).

Assessment Instructions

The Department will instruct U.S. Customs and Border Protection (CBP) to assess antidumping duties on all appropriate entries. For companies for which this review is rescinded, antidumping duties shall be assessed at rates equal to the cash deposit of estimated antidumping duties required at the time of entry, or withdrawal from warehouse, for consumption, in accordance with 19 CFR 351.212(c)(1)(i). The Department intends to issue appropriate assessment instructions directly to CBP 15 days after publication of this notice.

Notification to Importers

This notice serves as a reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Notification Regarding Administrative Protective Orders

This notice serves as a reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

We are issuing and publishing this notice in accordance with sections 751(a)(1) and 777(i)(1) of the Tariff Act of 1930, as amended, and 19 CFR 351.213(d)(4).

Dated: June 29, 2010.
John M. Andersen,
Acting Deputy Assistant Secretary for Antidumping and Countervailing Duty Operations.

[FR Doc. 2010-16504 Filed 7-6-10; 8:45 am]

BILLING CODE 3510-DS-P